DEPARTMENT OF COMMERCE

Economic Development Administration

Notice of Opportunity To Apply for Membership on the National Advisory Council on Innovation and Entrepreneurship (NACIE)

ACTION: Notice.

SUMMARY: The Department of Commerce (DOC) is currently seeking applications for membership on the National Advisory Council on Innovation and Entrepreneurship (NACIE). NACIE advises the Secretary of Commerce (the Secretary) on matters related to accelerating innovation and entrepreneurship.

Table of Contents

a. Dates

b. Addresses

c. For Further Information, Contact

d. Supplementary Information

DATES: Applications must be received by the Office of Innovation and Entrepreneurship (OIE), Economic Development Administration (EDA) by 11:59 p.m. Eastern Time on June 1, 2016, to be considered for membership in the formation of this NACIE cohort. Applications received by June 1, 2016, will also be considered to fill vacancies up to one year after this NACIE cohort's formation.

ADDRESSES: Please submit applications electronically to nacie@doc.gov and include “[NACIEApplication]” (without quotation marks) in the subject line, or by post or courier to the Office of Innovation and Entrepreneurship, Attn: NACIE Membership Applications, 1401 Constitution Avenue NW., Suite 78018, Washington, DC 20230. Electronic submissions are preferred.

FOR FURTHER INFORMATION CONTACT: For further information, interested parties can contact the Office of Innovation and Entrepreneurship via post at 1401 Constitution Avenue NW., Suite 78018, Washington, DC 20230; via telephone at +1 (202) 482-8001; or via email at nacie@doc.gov. NACIE's establishment is authorized by Section 25(c) of the Stevenson-Wydler Technology Innovation Act of 1980, as amended (15 U.S.C. 3720(c)). Additional information regarding NACIE can be found at https://www.eda.gov/oie/nacie/.

SUPPLEMENTARY INFORMATION: The Office of Innovation and Entrepreneurship (OIE) is accepting applications for membership on the National Advisory Council on Innovation and Entrepreneurship (NACIE) for a two-year term beginning on the date of appointment. Members will be selected, in accordance with Department of Commerce (DOC) guidelines, based on their ability to advise the Secretary of Commerce (the Secretary) on matters relating to the acceleration of innovation and the support for and expansion of entrepreneurship, including but not limited to the matters set forth in 15 U.S.C. 3720(b) and

• The development of policy recommendations to support entrepreneurship and innovation across business sectors and geographies;

• insights into innovative opportunities to increase the global competitiveness of both the workforce and the economy;

• the exploration of opportunities to promote the role of employers in creating and expanding successful talent development partnerships across multiple stakeholders;

• policies that encourage the creative use of technology to facilitate employee recruitment, training, career and talent development, and business startups; and

• the identification and promotion of best practices that accelerate the commercialization of research and intellectual property.

NACIE will identify and recommend solutions to issues critical to driving the innovation economy, including enabling entrepreneurs and firms to successfully access and develop a skilled, globally competitive workforce. NACIE will also serve as a vehicle for ongoing dialogue with the innovation, entrepreneurship, and workforce development communities, including but not limited to business and trade associations. The duties of NACIE are solely advisory, and it shall report to the Secretary through the Economic Development Administration (EDA) and the Office of the Secretary.

NACIE members shall be selected in a manner that ensures that NACIE is balanced in terms of perspectives and expertise with regard to innovation, entrepreneurship, and business-driven talent development that leads to a globally competitive workforce. To that end, the Secretary seeks diversity in the size of organization represented and seeks to appoint members who represent diverse geographies and innovation and entrepreneurship experiences from industry, government, academia, nonprofits, and non-governmental organizations.

Additional factors which may be considered in the selection of NACIE members include each candidate's proven experience in the design, creation, or improvement of innovation systems; commercialization of research and development; entrepreneurship; business-driven talent development that leads to a globally competitive workforce; and the creation and growth of innovation- and entrepreneurship-focused ecosystems. Members' affiliations may include, but are not limited to, successful executive-level business leaders; entrepreneurs; innovators; investors; post-secondary education leaders; directors of workforce and training organizations; and other experts drawn from industry, government, academia, philanthropic foundations with a demonstrated track record of research or support of innovation and entrepreneurship, and non-governmental organizations. Nominees will be evaluated consistent with factors specified in this notice and their ability to carry out the goals of NACIE.

Self-nominations will be accepted.

Appointments will be made without regard to political affiliation.

Membership. Members shall serve at the discretion of the Secretary. Because members will be appointed as experts, members will be considered special government employees (SGEs). Members participating in NACIE meetings and events will be responsible for their travel, living, and other personal expenses. Meetings will be held regularly and not less than twice annually, usually in Washington, DC. Members are required to attend a majority of NACIE's meetings. The first meeting for this NACIE cohort will take place October 6-7, 2016, in Washington, DC. Members may be required to arrive one day early for onboarding and orientation activities. Attendance is mandatory.

Eligibility. Eligibility for membership is limited to U.S. citizens who are not full-time employees of the United States government or of a foreign government, are not registered with the Department of Justice under the Foreign Agents Registration Act, and are not federally-registered lobbyists.

Application Procedure. For consideration, a nominee should submit: (1) A résumé; (2) a personal statement of interest including an outline of her or his abilities to advise the Secretary on the matters described above; (3) an affirmative statement that the nominee is not required to register as a foreign agent under the Foreign Agents Registration Act of 1938, as amended; and (4) an affirmative statement that the nominee is not a federally-registered lobbyist. It is preferred that applications be submitted electronically to nacie@doc.gov with a subject line that includes the text “[NACIEApplication]” (without quotation marks). Applications also may be sent to the Office of Innovation and Entrepreneurship, Attn: NACIE Membership Applications, 1401 Constitution Avenue NW., Suite 78018, Washington, DC 20230.

Appointments of members to NACIE will be made by the Secretary.

Dated: April 26, 2016.
Julie Lenzer,
Director, Office of Innovation and Entrepreneurship, Economic Development Administration.

[FR Doc. 2016-10196 Filed 4-29-16; 8:45 am]

BILLING CODE P